DEPARTMENT OF TRANSPORTATION

Maritime Administration

Voluntary Intermodal Sealift Agreement; Correction

The notice, announcing the extension of the Voluntary Intermodal Sealift Agreement (VISA) for another two-year period until February 13, 2005, appearing on pages 8800-8808 in the issue of Tuesday, February 25, 2003, should have included the following flow chart entitled: “Figure 1—VISA Activation Process Diagram” at the end of the document.

By Order of the Maritime Administrator.
Dated: February 26, 2003.
Joel C. Richard,
Secretary, Maritime Administration.

BILLING CODE 4910-81-P

[FR Doc. 03-4899 Filed 2-28-03; 8:45 am]

BILLING CODE 4910-81-C